DEPARTMENT OF THE INTERIOR

Office of Surface Mining Reclamation and Enforcement

30 CFR Part 942

RIN 1029-AC50

Tennessee Federal Program

AGENCY: Office of Surface Mining Reclamation and Enforcement, Interior.

ACTION: Proposed rule; extension of comment period and notice of hearing.

SUMMARY: We are extending the public comment period on the proposed Tennessee Federal Program rule published on April 6, 2006. The comment period is being extended in order to afford the public more time to comment and to allow enough time to hold a public hearing which has been requested by several individuals. We are also notifying the public of the date, time, and location for the public hearing.

DATES: Comments on the proposed rule must be received on or before 4 p.m., local time on June 30, 2006. The public hearing will be held on June 1, 2006, at 7 p.m. local time.

ADDRESSES: Written or Electronic Comments: you may submit comments identified by RIN 1029-AC50, by any of the following methods:

• E-Mail: tdieringer@osmre.gov. Include docket number 1029-AC50 in the subject line of the message.

• Mail/Hand-Delivery/Courier: Knoxville Field Office, Office of Surface Mining Reclamation and Enforcement, 710 Locust Street, 2nd Floor, Knoxville, Tennessee 37902.

• Federal e-Rulemaking Portal: http://www.regulations.gov. Follow the instructions for submitting comments.

For detailed instructions on submitting comments and additional information on the rulemaking process, see “III. Public Comment Procedures” in the SUPPLEMENTARY INFORMATION section of the proposed rule published on April 6, 2006.

Public Hearing: The public hearing will be held at Holiday Inn Select Downtown, 525 Henley Street, Knoxville, Tennessee 37902, telephone: 865-522-2800, on June 1, 2006, at 7 p.m. local time.

FOR FURTHER INFORMATION CONTACT: Tim Dieringer, Field Office Director, Telephone: 865-545-4103; e-mail: tdieringer@osmre.gov.

SUPPLEMENTARY INFORMATION: On April 6, 2006 (71 FR 17682), we published a proposed rule that would revise the Tennessee Federal Program. The revisions would: (1) Provide regulations establishing trust funds or annuities to fund the treatment of long-term postmining pollutional discharges; (2) delete the minimum requirements of eighty percent (80%) ground cover for certain postmining land uses and provide that herbaceous ground cover be limited to that necessary to control erosion and support the postmining land use; and (3) exempt areas developed for wildlife habitat, undeveloped land, recreation, or forestry from the requirements that bare areas shall not exceed one-sixteenth (1/16) acre in size and total not more than ten percent (10%) of the area seeded.

We have received several requests for a public hearing on the proposed rule. We are extending the public comment period in order to afford the public more time to comment and to allow enough time to schedule and hold the hearing. The date, time, and location for the public hearing may be found under DATES and ADDRESSES above.

The hearings will be open to anyone who would like to attend and/or testify. The primary purpose of the public hearing is to obtain your comments on the proposed rule so that we can prepare a complete and objective analysis of the proposal. The purpose of the hearing officer is to conduct the hearing and receive the comments submitted. Comments submitted during the hearing will be responded to in the preamble to the final rule, not at the hearing. We appreciate all comments but those most useful and likely to influence decisions on the final rule will be those that either involve personal experience or include citations to and analyses of the Surface Mining Control and Reclamation Act of 1977, its legislative history, its implementing regulations, case law, other State or Federal laws and regulations, data, technical literature, or relevant publications.

At the hearing, a court reporter will record and make a written record of the statements presented. This written record will be made part of the administrative record for the rule. If you have a written copy of your testimony, we encourage you to give us a copy. It will assist the court reporter in preparing the written record. Any disabled individual who needs reasonable accommodation to attend the public hearing is encouraged to contact the person listed under FOR FURTHER INFORMATION CONTACT.

Dated: April 25, 2006.
H. Vann Weaver,
Acting Regional Director.

[FR Doc. E6-6653 Filed 5-2-06; 8:45 am]

BILLING CODE 4310-05-P